DEPARTMENT OF THE INTERIOR

Bureau of Land Management

[NV-912-07-1220PA-006F]

Cancellation of the BLM Nevada Resource Advisory Council Recreation Subcommittee Meeting

AGENCY: Bureau of Land Management, Interior.

ACTION: Cancellation of the BLM Nevada Resource Advisory Council Recreation Subcommittee Meeting.

SUMMARY: The March 29, 2007, meeting of the Bureau of Land Management's (BLM) Resource Advisory Councils Recreation Subcommittee has been cancelled.

DATE AND TIME: The Recreation Subcommittee was scheduled to meet Thursday, March 29, 2007, from 9 a.m. to 4:30 p.m. at the Bureau of Land Management, Nevada State Office, located at 1340 Financial Boulevard in Reno, Nevada.

FOR FURTHER INFORMATION CONTACT: Doran Sanchez, Chief, Office of Communications (775) 861-6586, or Barbara Keleher, Outdoor Recreation Planner (775) 861-6628, at the BLM Nevada State Office, 1340 Financial Blvd., Reno, Nevada.

SUPPLEMENTARY INFORMATION: The meeting announced by a notice at 72 FR 9580 Mar. 2, 2007 is cancelled. The public will be notified via Federal Register Notice and news release when the meeting is rescheduled.

Dated: March 12, 2007.
Ron Wenker,
Bureau of Land Management, Nevada State Director.

[FR Doc. 07-1288 Filed 3-22-07; 8:45 am]

BILLING CODE 4310-HC-M